DEPARTMENT OF TRANSPORTATION

Federal Highway Administration

Environmental Impact Statement: Williams, Mountrail, and Ward Counties, ND

AGENCY: Federal Highway Administration (FHWA), DOT.

ACTION: Notice of Intent.

SUMMARY: The FHWA is issuing this notice to advise the public that an environmental impact statement will be prepared for a proposed highway project in Williams, Mountrail, and Ward Counties of North Dakota.

FOR FURTHER INFORMATION CONTACT: Mr. J. Michael Bowen, Division Administrator, Federal Highway Administration, 1471 Interstate Loop, Bismarck, North Dakota 58503, Telephone: (701) 250-4204.

SUPPLEMENTARY INFORMATION: The FHWA, in cooperating with the North Dakota Department of Transportation, will prepare an environmental impact statement (EIS) on a proposal to improve U.S. Highway 2 (US 2) in Williams, Mountrail, and Ward Counties of North Dakota. The proposed improvement would involve the four-laning of US 2 from junction US 85 (milepost 32.4), north of Williston, to junction US 52 (milepost 131.3), west of Minot, a distance of nearly one hundred miles. The proposed improvement would require the construction of an additional two-lane roadway adjacent to the present two-lane US 2.

The proposed improvements for four-laning U.S. Highway 2 are based on the public requests established by the repeated ongoing and historic formal and informal communication from local and regional civic and business groups. The completion of this four-lane facility will provide a consistent National Highway System Designated transportation system through the northern portion of North Dakota, with a primary benefit of enhanced economic development opportunities. Alternatives under consideration include: (1) Taking no action; (2) add two lanes to the south of the existing US 2; (3) add two lanes to the north of the existing US 2; (4) selectively add two lanes to the north or the south through the existing corridor; and (5) obliterate the existing US 2 and align the new four-lane section within the existing corridor.

Letters describing the proposed action and soliciting views and comments will be sent to various Federal, State and Local agencies and to private organizations and citizens who have previously expressed or are known to have interest in this proposal. A series of public meetings will be held in the US 2 area between August and December 2000 to solicit both oral and written comments from interested parties. Public notice will be given for the time and place of the public meetings. Project scoping will be completed in conjunction with the public meetings and the solicitation of views.

A draft EIS will be prepared based upon the project scoping. The draft EIS will be available for agency and public review and comment. In addition, a public hearing will be held following completion of the draft EIS. Public notice will be given for the time and place of the public hearing for the draft EIS.

To ensure that the full range of issues related to this proposed action are addressed and all significant issues are identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on federal programs and activities apply to this program.)

Issued on: July 14, 2000.
William M. Brownell,
Assistant Division Administrator, Federal Highway Administration, Bismarck, North Dakota 58503.

[FR Doc. 00-20317 Filed 8-9-00; 8:45 am]

BILLING CODE 4910-22-M